DEPARTMENT OF HOMELAND SECURITY

Federal Emergency Management Agency

[Docket ID FEMA-2006-0029]

RIN 1660-ZA05

Privacy Act System of Records; Amendment to Existing Routine Uses

AGENCY: Federal Emergency Management Agency (FEMA), Department of Homeland Security (DHS).

ACTION: Notice of amendment to routine uses.

SUMMARY: In compliance with the requirements of the Privacy Act of 1974, as amended, FEMA gives notice that it proposes to revise its Disaster Recovery Assistance Files, FEMA/REG-2, to address important issues that arose in the aftermath of Hurricane Katrina.

EFFECTIVE DATE: The amended system of records will be effective August 7, 2006, unless comments are received that result in a contrary determination. The public, the Office of Management and Budget (OMB), and Congress are invited to comment on the amended system of records. The amended system of records will be applicable to major disasters or emergencies declared on or after July 6, 2006, unless comments are received that result in a contrary determination.

ADDRESSES: You may submit comments, identified by Docket ID FEMA-2006-0029 by one of the following methods:

• Federal eRulemaking Portal: http://www.regulations.gov. Follow the instructions for submitting comments;

• E-mail: FEMA-RULES@dhs.gov. Include the Docket ID in the subject line of the message;

• Fax: 202-646-4536 (not a toll-free number); or

• Mail/Hand Delivery/Courier: Rules Docket Clerk, Office of General Counsel, Federal Emergency Management Agency, Room 840, 500 C Street, SW., Washington, DC 20472; Maureen Cooney, Acting Chief Privacy Officer, Department of Homeland Security, 601 S. 12th Street, Arlington, VA 22202.

Instructions: All submissions received must include the agency name and Docket ID (if available) for this notice. All comments received will be posted without change to http://www.regulations.gov, including any personal information provided.

Docket: For access to the docket to read background documents or comments received, go to the Federal eRulemaking Portal at http://www.regulations.gov. Submitted comments may also be inspected at FEMA, Office of General Counsel, 500 C Street, SW., Room 840, Washington, DC 20472.

SUPPLEMENTARY INFORMATION: In compliance with the requirements of the Privacy Act of 1974, as amended, 5 U.S.C. 552a, FEMA gives notice that it intends to make several changes to its system of records entitled, FEMA/REG-2, Disaster Recovery Assistance Files, which was last published in the Federal Register on November 15, 2004 (69 FR 65615). As a result of experiences during Hurricane Katrina and questions raised about FEMA's authority to share vital information needed to assist in disaster recovery and relief, FEMA is revising its Disaster Recovery Assistance Files system of records in several respects.

First, FEMA has modified the “Purpose(s)” section to add as a purpose of the system information sharing in the event of another Presidentially-declared major disaster or emergency that adversely impacts a significant portion of the United States. The information FEMA collects during its disaster assistance efforts can be of critical importance to State and local governments, private relief organizations, and law enforcement agencies, and although FEMA believes it has the authority to share information with these partners, it is revising its SORN to make transparent the fact that such sharing is a purpose of the system of records.

Second, FEMA intends to add new routine uses that allow for information sharing with Federal agencies, State and local governments or other authorized entities for the purposes of reunifying families, locating missing children, voting, and with law enforcement entities in the event of circumstances involving an evacuation, sheltering, or mass relocation, for purposes of identifying and addressing public safety and security issues. These routine uses are being added to resolve any ambiguities about FEMA's authority to share information under these circumstances and to ensure that necessary information can be disseminated in an efficient and effective manner.

FEMA is also making some non-substantive editorial changes to its system notice. FEMA is eliminating routine uses that are related to internal, administrative processes including routine use “(k) Private Relief Legislation,” and “(p) Freedom of Information Act (FOIA) Discussions with Other Agencies Regarding DHS Documents and Vice Versa.” FEMA is deleting routine uses that are unnecessary including routine use “(h) Requesting Information” and routine use and “(i) Requested Information.”

The proposed revisions to this system of records will not change the type or amount of information collected from individuals who apply for disaster assistance. Instead, the revisions will change with whom that information can be shared and for what purposes. FEMA believes that these revisions will allow it to more effectively provide a full range of disaster assistance and meet its responsibilities to share critical information with other Federal, State, and local government agencies as well as private entities involved in various aspects of disaster recovery and relief.

In accordance with the requirements of 5 U.S.C. 552a(r), a report on the revisions to this system notice has been provided to the Office of Management and Budget and to Congress.

DHS/FEMA-REG 2

SYSTEM NAME:

Disaster Recovery Assistance Files.

SYSTEM LOCATION:

National Processing Service Centers (NPSC) located at FEMA MD-NPSC, 6505 Belcrest Road, Hyattsville, MD 20782; FEMA VA-NPSC, 19844 Blue Ridge Mountain Road, Bluemont, VA 20135; FEMA TX-NPSC, 3900 Karina Lane, Denton, TX 76208; and FEMA PR-NPSC, Carr 8860, KM 1.1 Bldg T-1429, Trujillo Alto, PR 00976.

CATEGORIES OF INDIVIDUALS COVERED BY THE SYSTEM:

Individuals who apply for disaster recovery assistance through three different mediums including: (a) electronically via the Internet, (b) by calling FEMA's toll-free number, or (c) through the submission of a paper copy of FEMA Form 90-69 following Presidentially-declared major disasters or emergencies.

CATEGORIES OF RECORDS IN THE SYSTEM:

(a) Records of registration for assistance (Form 90-69, Disaster Assistance Registration/Application) include individual applicants' names, addresses, telephone numbers, social security numbers, insurance coverage information, household size and composition, degree of damage incurred, income information, programs to which FEMA refers applicants for assistance, flood zones, location and height of high water level, and preliminary determinations of eligibility for disaster assistance.

(b) Inspection reports (Form 90-56, Inspection Report) contain individuals' identifying information and results of surveys of damaged real and personal property and goods, which may include individuals' homes and personal items.

(c) Temporary housing assistance eligibility determinations (Forms 90-11 through 90-13, 90-16, 90-22, 90-24 through 90-28, 90-31, 90-33, 90-41, 90-48, 90-57, 90-68 through 90-70, 90-71, 90-75 through 90-78, 90-82, 90-86, 90-87, 90-94 through 90-97, 90-99, and 90-101). These refer to approval and disapproval of temporary housing assistance and include: general correspondence, complaints, appeals and resolutions, requests for disbursement of payments, inquiries from tenants and landlords, general administrative and fiscal information, payment schedules and forms, termination notices, information shared with the temporary housing program staff from other agencies to prevent the duplication of benefits, leases, contracts, specifications for repair of disaster damaged residences, reasons for eviction or denial of aid, sales information after tenant purchase of housing units, and the status of disposition of applications for housing.

(d) Eligibility decisions for disaster aid from other Federal and State agencies (for example, the disaster loan program administered by the Small Business Administration, and disaster aid decisions of the State-administered Individual and Family Grants (IFG) and its successor program, Other Needs Assistance (ONA)) as they relate to determinations of individuals' eligibility for disaster assistance programs.

(e) State files, independently kept by the State, which contains records of persons who request disaster aid, specifically for IFG and its successor program, ONA, and administrative files and reports required by FEMA. As to individuals, the State keeps the same type of information as described above under registration, inspection, and temporary housing assistance records. As to administrative files and reporting requirements, the State uses forms 76-27, 76-28, 76-30, 76-32, 76-34, 76-35, and 76-38. This collection of information is essential to the effective monitoring and management of the IFG and the ONA Program by FEMA's Regional Office staff who have the oversight responsibility of ensuring that the State perform and adhere to FEMA regulations and policy guidance.

AUTHORITY FOR MAINTENANCE OF THE SYSTEM:

Robert T. Stafford Disaster Relief and Emergency Assistance Act (the Stafford Act), 42 U.S.C. 5121-5206 and Reorganization Plan No. 3 of 1978.

PURPOSE(S):

To register applicants needing disaster assistance, to inspect damaged homes, to verify information provided by each applicant, to make eligibility determinations regarding an applicant's request for assistance, and to identify and implement measures to reduce future disaster damage, and for other purposes identified in the “Routine Uses” section below, resulting from a Presidentially-declared major disaster or emergency that adversely impacts a significant portion of the United States.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DHS or FEMA as a routine use pursuant to 5 U.S.C. 552a(b)(3) as follows:

(a) FEMA may disclose applicant information to certain agencies as necessary and as described below to prevent a duplication of efforts or a duplication of benefits in determining eligibility for disaster assistance. FEMA shall only release as much information as is necessary to enable the recipient agency to determine eligibility for that agency's particular assistance program(s). The receiving agency is not permitted to alter or to further disclose our disclosed records to other disaster organizations. FEMA may make such disclosures under the following circumstances:

(1) To another Federal agency or State government agency charged with administering disaster relief programs to make available any additional Federal and State disaster assistance to individuals and households.

(2) When an applicant seeks assistance from a local government agency or a voluntary organization (as defined at 44 CFR 206.2(a)(27), as amended or superseded) charged under legislation or charter with administering disaster relief programs, and FEMA receives a written request from that local government or voluntary agency that includes the applicant's name, FEMA registration/application number, and damaged dwelling address. The written request must explain the type of tangible assistance being offered and the type of verification required before the assistance can be provided.

(3) To voluntary organizations (as defined at 44 CFR 206.2(a)(27), as amended or superseded) that have an established disaster assistance program to address the disaster-related unmet needs of disaster victims, are actively involved in the recovery efforts of the disaster, and either have a national membership, in good standing, with the National Voluntary Organizations Active in Disaster (NVOAD), or are participating in the disaster's Long-Term Recovery Committee. When a voluntary agency satisfies all of the criteria listed in this sub-paragraph, FEMA may release lists of individuals' names, contact information, and their FEMA inspected loss amount to the volunteer agency for the sole purpose of providing additional disaster assistance. FEMA shall release this information only while the period for assistance for the current disaster is open.

(b) When an individual's eligibility, in whole or in part, for a DHS/FEMA disaster assistance program depends upon benefits already received or available from another source for the same purpose, FEMA may disclose information to relevant agencies, organizations, and institutions as necessary to determine what benefits are available from another source and to prevent the duplication of disaster assistance benefits (as described in section 312 of the Stafford Act).

(c) In response to a written request, FEMA may disclose information from this system of records to Federal, State, or local government agencies charged with the implementation of hazard mitigation measures and the enforcement of hazard-specific provisions of building codes, standards, and ordinances. FEMA may only disclose information for the following purposes:

(1) For hazard mitigation planning purposes to assist States and local communities in identifying high-risk areas and preparing mitigation plans that target those areas for hazard mitigation projects implemented under Federal, State or local hazard mitigation programs.

(2) For enforcement purposes, to enable State and local communities to ensure that owners repair or rebuild structures in conformance with applicable hazard-specific building codes, standards, and ordinances.

(d) Pursuant to the Debt Collection Improvement Act of 1996, 31 U.S.C. 3325(d) and 7701(c)(1), FEMA is required to collect and release to the United States Department of the Treasury the social security number of the person doing business with FEMA, including an applicant for a grant. Therefore, FEMA will release an applicant's social security number in connection with a request for payment to the U.S. Treasury in order to provide a disaster assistance payment to an applicant under the Individual Assistance program.

(e) FEMA may provide a list of applicants' names, amounts of assistance provided, and related information to a State in connection with billing that State for the applicable non-Federal cost share under the Individuals and Households Program.

(f) When an applicant is occupying a FEMA Temporary Housing unit, FEMA may release only the location of the FEMA Temporary Housing unit to local emergency managers for the sole purpose of preparing emergency evacuation plans. FEMA shall not release any information on an individual, such as their name, type or amount of disaster assistance received.

(g) Where a record, either on its face or in conjunction with other information, indicates a violation or potential violation of law—criminal, civil or regulatory—the relevant records may be referred to an appropriate Federal, State, territorial, tribal, local, international, or foreign agency law enforcement authority or other appropriate agency charged with investigating or prosecuting such a violation or enforcing or implementing such law. In the event of circumstances requiring an evacuation, sheltering, or mass relocation, FEMA may also share applicant information with Federal, State or local law enforcement in order to identify illegal or fraudulent conduct and address public safety or security issues.

(h) To a congressional office from the record of an individual in response to an inquiry from that congressional office made at the request of the individual to whom the record pertains.

(i) To the National Archives and Records Administration or other Federal Government agencies pursuant to records management inspections being conducted under the authority of 44 U.S.C. sections 2904 and 2906.

(j) To an agency, organization, or individual for the purposes of performing authorized audit or oversight operations.

(k) To contractors, grantees, experts, consultants, students, and others performing or working on a contract, service, grant, cooperative agreement, or other assignment for the Federal Government, when necessary to accomplish an agency function related to this system of records.

(l) To the Department of the Treasury, Justice, the United States Attorney's Office, or a consumer reporting agency for further collection action on any delinquent debt when circumstances warrant.

(m) To the Department of Justice (DOJ) or other Federal agency conducting litigation or in proceedings before any court, adjudicative or administrative body, when: (1) DHS, or (2) any employee of DHS in his/her official capacity, or (3) any employee of DHS in his/her individual capacity where DOJ or DHS has agreed to represent the employee, or (4) the United States or any agency thereof, is a party to the litigation or has an interest in such litigation.

(n) Reunification of Families: To a Federal or State law enforcement authority, or agency, or other entity authorized to investigate and/or coordinate locating missing children and/or reuniting families.

(o) Voting: To State and local government election authorities to oversee the voting process within their respective State/county/parish, for the limited purpose of ensuring voting rights of individuals who have applied to FEMA for Disaster Assistance, limited to their own respective State's/county's/parish's citizens who are displaced by a Presidentially-declared major disaster or emergency out of their State/county/parish voting jurisdiction.

DISCLOSURE TO CONSUMER REPORTING AGENCIES:

Disclosure under 5 U.S.C. 552a(b)(12): FEMA may make disclosures from this system to consumer reporting agencies' as defined in the Fair Credit Reporting Act, 15 U.S.C. Section 1681a(f), or the Debt Collection Act of 1982, 31 U.S.C. Section 3711(e).

POLICIES AND PRACTICES FOR STORING, RETRIEVING, ACCESSING, RETAINING, AND DISPOSING OF RECORDS IN THE SYSTEM:

STORAGE:

Interactive database, computer discs, and paper records in file folders.

RETRIEVABILITY:

By an individual's name, address, social security number, and case file number.

SAFEGUARDS:

Only authorized individuals and FEMA employees have access to this information. Hardware and software computer security measures are used to control access to the data. Access to the data is based upon an individual's position in FEMA and/or their designated duties. Individuals are assigned specific “rights” or specific access (e.g., read only, modify, delete, etc.). The access granted is based upon an individual's position responsibilities for “official use” only. FEMA employees are allowed access to the data as a function of their specific job assignments within their respective organizations. Each FEMA employee's access to the data is restricted to that needed to carry out their duties.

No individual applying for disaster assistance will have access to the entire database via the Internet. Applicants will have limited access to only their own information that they submitted via the Internet, and to the status of their own information regarding the processing of their own application (e.g. the status of required documentation, inspection status, or SBA status). Applicants are provided a Logon id, password, and Personal Identification Number (PIN) that connect only to the applicant's data. The password and PIN ensures that the login id belongs to the applicant. Computer security software ensures that the login id is mapped only to the applicant's data. Applicants will have access to only their own application information after FEMA assigns them a properly authenticated user id, password, and PIN. Applicants will be registered and authenticated in accordance with National Institute of Standards and Technology Level 2 Assurance guidelines.

RETENTION AND DISPOSAL:

Records covered by paragraphs (a) through (d) are covered by Records Schedule N1-311-86-1 4C10a and are destroyed after 6 years and 3 months. Records covered by paragraph (e) are covered by Records Schedules N1-311-86-1 4C7 and/or N1-311-86-1 4C10b and are destroyed 3 years after closeout.

SYSTEM MANAGER(S) AND ADDRESS:

Division Director, Recovery Division, FEMA, 500 C Street SW., Washington, DC 20472 and applicable Regional Directors, as listed in Appendix A(1).

NOTIFICATION PROCEDURE:

Requests for Privacy Act protected information generally are governed by DHS regulations found at 6 CFR part 5 and FEMA's regulations at 44 CFR part 6. They must be made in writing, and clearly marked as a “Privacy Act Request” on the envelope and letter. The name of the requester, the nature of the record sought, and the verification of identity must be clearly indicated, as required by DHS regulation 6 CFR 5.21 and FEMA regulation at 44 CFR 6.30. Requests may also be sent to: Privacy Act Officer, DHS/FEMA Office of General Counsel (GL), Room 840, 500 C Street, SW., Washington, DC 20472.

RECORD ACCESS PROCEDURES:

Same as the Notification Procedure above.

CONTESTING RECORD PROCEDURE:

Same as the Notification Procedure above. The letter should state clearly and concisely what information you are contesting, the reasons for contesting it, and the proposed amendment to the information that you seek pursuant to DHS Privacy Act regulations at 6 CFR part 5 and FEMA regulations at 44 CFR part 6.

RECORD SOURCE CATEGORIES:

Applicants for disaster recovery assistance, credit rating bureaus, financial institutions, insurance companies, and state, local and voluntary agencies providing disaster relief, commercial databases (for verification purposes).

EXEMPTIONS CLAIMED FOR THE SYSTEM:

None.

Dated: June 30, 2006.
Maureen Cooney,
Acting Chief Privacy Officer.

Appendix A (1)—Addresses for FEMA Regional Offices

Region I—Regional Director, FEMA, 99 High Street, 6th Floor, Boston, MA 02110;

Region II—Regional Director, FEMA, 26 Federal Plaza, New York, NY 10278-0002;

Region III—Regional Director, FEMA, One Independence Mall, 615 Chestnut Street, Philadelphia, PA 19106-4404;

Region IV—Regional Director, FEMA, 3003 Chamblee-Tucker Road, Atlanta, GA 30341;

Region V—Regional Director, FEMA, 536 S. Clark Street, Chicago, IL 60605;

Region VI—Regional Director, FEMA, Federal Center, 800 North Loop 288 Denton, TX 76209;

Region VII—Regional Director, FEMA, 2323 Grand Boulevard, Kansas City, MO 64108-2670;

Region VIII—Regional Director, FEMA, Denver Federal Center, Building 710, Box 25267, Denver, CO 80225-0267;

Region IX—Regional Director, FEMA, 1112 Broadway St. Oakland, CA 94607;

Region X—Regional Director, FEMA, Federal Regional Center, 130 228th Street, SW., Bothell, WA 98021-9796.

[FR Doc. E6-10640 Filed 7-5-06; 8:45 am]

BILLING CODE 9110-10-P